DEPARTMENT OF HEALTH AND HUMAN SERVICES

Agency for Healthcare Research and Quality

Notice of an Upcoming Challenge Competition

AGENCY: Agency for Healthcare Research and Quality (AHRQ), Department of Health and Human Services.

ACTION: Notice.

SUMMARY: This notice announces the intention of the Agency for Healthcare Research and Quality (AHRQ) to conduct a Challenge Competition in Fall 2018 to develop user-friendly technical tools to collect and integrate patient-reported outcome data in electronic health records or other health information technology products.

FOR FURTHER INFORMATION CONTACT: Janey Hsiao, Health Scientist Administrator, Center for Evidence and Practice Improvement, Agency for Healthcare Research and Quality, 5600 Fishers Lane, Mail Stop 06E73A, Rockville, Maryland, 20857, Email: Janey.hsiao@ahrq.hhs.gov, Phone: (301) 427-1335.

SUPPLEMENTARY INFORMATION:

Background

The patient's perspective is central to healthcare decisions affecting prevention, diagnosis, treatment, and long-term care. Patient-reported outcomes (PROs) critically inform patient-centered outcomes research (PCOR) and can inform clinical management of individuals, shared decision making, patient self-management support, care planning, goal setting and goal attainment. PROs offer a complementary perspective to that of clinician assessments, and may provide greater insights into health status, function, symptom burden, adherence, health behaviors, and quality of life. However, standardized tools that collect PRO data in a way that is meaningful and useful to both patients and clinicians in primary care and ambulatory settings are not widely available.

The limited inclusion of PRO data in electronic health records (EHRs) and other health information technology (IT) solutions reduces the understanding and use of the patient's perspective in research and clinical care. Further, while some EHRs are currently able to capture some structured PRO data, including many of the NIH-funded Patient Reported Outcomes Measurement Information System® (PROMIS®) instruments, this information is not commonly collected in routine care. Thus, these data are often not available for both clinical care and research. Moreover, standards do not exist for collecting and integrating PRO data into health IT systems, thereby limiting the ability to easily share these data across health systems for research or other purposes including quality improvement.

Proposed Project

To fill these gaps, AHRQ intends to support the development of user-friendly, PRO-collection tools that utilize health IT standards, including application programming interfaces (APIs) to collect physical function data in ambulatory care settings (including primary care). Data element and data capture standards would allow for PRO assessments to be conducted and easily shared regardless of what EHR or health IT solution is being used. It would also allow for consistency in interpretation, and clarify the meaning of results for patient-provider communication and shared decision-making.

The development of user-friendly, PRO-collection tools will be conducted though a multi-phase Challenge Competition in Fall 2018. The statutory authority for this challenge competition is Section 105 of the America COMPETES Reauthorization Act of 2010. Only the winners from each phase can move on to the next phase so the participant pool becomes more limited throughout the competition. Developers will be asked to create tools based on implementation specifications provided by AHRQ. The tools should enable patients to share their physical function data with clinicians and researchers. AHRQ will convene a panel to judge the Challenge Competition. The judges of the Challenge Competition will evaluate the resulting submissions for adhering to the implementation specifications set forth in the Challenge Competition.

AHRQ will manage the Challenge Competition including developing the concept, designing prizes, drafting the Federal Register Notice, setting up the Challenge website, answering questions from developers, and giving prizes to winners. The Challenge Competition will be conducted by AHRQ in furtherance of the Secretary's authority to develop interoperable data networks that can link data from multiple sources, including electronic health records. 42 U.S.C. 299b-37(f).

Dated: December 19, 2017.
Gopal Khanna,
Director.

[FR Doc. 2017-27663 Filed 12-22-17; 8:45 am]

BILLING CODE 4160-90-P